FEDERAL HOUSING FINANCE AGENCY

[No. 2015-N-02]

Federal Home Loan Bank Members Selected for Community Support Review 2014-2015 Review Cycle—5th Round

AGENCY: Federal Housing Finance Agency.

ACTION: Notice.

SUMMARY: The Federal Housing Finance Agency (FHFA) is announcing the Federal Home Loan Bank (Bank) members it has selected for the 2014-2015 Review Cycle—5th Round under FHFA's community support requirements regulation. This Notice also prescribes the deadline by which Bank members selected for this review cycle must submit Community Support Statements to FHFA.

DATES: Bank members selected for this review cycle must submit Community Support Statements to FHFA on or before April 30, 2015. Comments on members' community support performance must be submitted to FHFA by the same date.

ADDRESSES: Submit completed Community Support Statements to FHFA by electronic mail at hmgcommunitysupportprogram@fhfa.gov. A member that does not have electronic mail capability may submit the Community Support Statement by fax to 202-649-4130. Comments on members' community support performance should be submitted to FHFA as provided above.

FOR FURTHER INFORMATION CONTACT: Melissa Allen, Principal Program Analyst, 202-658-9266, or Charles E. McLean, Jr., Special Assistant to the Deputy Director, 202-649-3155, at hmgcommunitysupportprogram@fhfa.gov, Office of Housing and Regulatory Policy, Division of Housing Mission and Goals, Federal Housing Finance Agency, Ninth Floor, 400 Seventh Street SW., Washington, DC 20024.

SUPPLEMENTARY INFORMATION:

I. Selection for Community Support Review

Section 10(g)(1) of the Federal Home Loan Bank Act (Bank Act) requires FHFA to promulgate regulations establishing standards of community investment or service that Bank members must meet in order to maintain access to long-term Bank advances. See 12 U.S.C. 1430(g)(1). The regulations promulgated by FHFA must take into account factors such as the Bank member's performance under the Community Reinvestment Act of 1977 (CRA), 12 U.S.C. 2901 et seq., and the Bank member's record of lending to first-time homebuyers. See 12 U.S.C. 1430(g)(2). Pursuant to section 10(g) of the Bank Act, FHFA has promulgated a community support requirements regulation that establishes standards a Bank member must meet in order to maintain access to long-term advances, and establishes review criteria FHFA must apply in evaluating a member's community support performance. See 12 CFR part 1290. The regulation includes standards and criteria for the two statutory factors—members' CRA performance and members' record of lending to first-time homebuyers. 12 CFR 1290.3. Only members subject to the CRA must meet the CRA standard. 12 CFR 1290.3(b). All members subject to community support review, including those not subject to the CRA, must meet the first-time homebuyer standard. 12 CFR 1290.3(c). Members that have been certified as community development financial institutions (CDFIs) are deemed to be in compliance with the community support requirements and are not subject to periodic community support review, unless the CDFI member is also an insured depository institution or a CDFI credit union. 12 CFR 1290.2(e).

Under the regulation, FHFA selects approximately one-eighth of the members in each Bank district for community support review each calendar quarter. 12 CFR 1290.2(a). FHFA will not review an institution's community support performance until it has been a Bank member for at least one year. Selection for review is not, nor should it be construed as, any indication of either the financial condition or the community support performance of the member. On or before March 31, 2015, each Bank will notify the members in its district that have been selected for this review cycle that they must complete and submit Community Support Statements to FHFA by the deadline prescribed in this Notice. 12 CFR 1290.2(b)(2)(i). The member's Bank will provide a blank Community Support Statement Form (OMB No. 2590-0005), which also is available on FHFA's Web site: http://www.fhfa.gov/webfiles/2924/FHFAForm060.pdf. Upon request, the member's Bank also will provide assistance in completing the Community Support Statement. Each Bank member selected for this review cycle must complete the Community Support Statement and submit it to FHFA by the deadline prescribed in this Notice. 12 CFR 1290.2(b)(1)(ii) and (c).

FHFA has selected the following members for this review cycle:

FHFA ID (Docket #) | Member | City | State
Federal Home Loan Bank of Boston—District 1
6828 | People's United Bank | Bridgeport | CT
8442 | Farmington Bank | Farmington | CT
6722 | Liberty Bank | Middletown | CT
54835 | General Electric Employees Federal Credit Union | Milford | CT
8452 | Ion Bank | Naugatuck | CT
55391 | Start Community Bank | New Haven | CT
10336 | Citizens National Bank | Putnam | CT
7955 | United Bank | Rockville | CT
15683 | The Simsbury Bank and Trust Company, Inc | Simsbury | CT
54966 | Hartford Life Insurance Company | Simsbury | CT
8473 | Savings Institute Bank and Trust Company | Willimantic | CT
3781 | Windsor Federal Savings & Loan Assn | Windsor | CT
12199 | BARRE SAVINGS BANK | Barre | MA
54948 | State Street Bank and Trust Company | Boston | MA
15304 | HarborOne Bank | Brockton | MA
7924 | Chicopee Savings Bank | Chicopee | MA
8348 | Weymouth Bank | East Weymouth | MA
14367 | Everett Credit Union | Everett | MA
4185 | MutualOne Bank | Framingham | MA
5366 | Dean Co-operative Bank | Franklin | MA
12703 | Greenfield Savings Bank | Greenfield | MA
54985 | Franklin First Federal Credit Union | Greenfield | MA
15847 | U-Mass Five College Federal Credit Union | Hadley | MA
14156 | Hanscom Federal Credit Union | Hanscom AFB | MA
4186 | Commonwealth Cooperative Bank | Hyde Park | MA
7811 | Lee Bank | Lee | MA
15919 | Millbury Federal Credit Union | Millbury | MA
15236 | First Citizens' Federal Credit Union | New Bedford | MA
8496 | Newburyport Five Cents Savings Bank | Newburyport | MA
54858 | First Commons Bank, N.A | Newton Centre | MA
4396 | Norwood Co-operative Bank | Norwood | MA
7963 | North Shore Bank, A Co-operative Bank | Peabody | MA
1219 | Pittsfield Co-Operative Bank | Pittsfield | MA
7290 | BERKSHIRE BANK | Pittsfield | MA
3996 | Savers Co-operative Bank | Southbridge | MA
6525 | StonehamBank, A Co-operative Bank | Stoneham | MA
55363 | Plymouth County Teachers Federal Credit Union | West Wareham | MA
4390 | Winchester Co-operative Bank | Winchester | MA
7995 | Bay State Savings Bank | Worcester | MA
15733 | Down East Credit Union | Baileyville | ME
15732 | Ocean Communities Federal Credit Union | Biddeford | ME
10325 | The First N.A | Damariscotta | ME
6947 | The Bank of Maine | Gardiner | ME
7669 | Androscoggin Savings Bank | Lewiston | ME
9576 | MACHIAS SAVINGS BANK | Machias | ME
12128 | Katahdin Federal Credit Union | Millinocket | ME
15664 | PeoplesChoice Credit Union | Saco | ME
55345 | Saco Valley Credit Union | Saco | ME
7706 | Sanford Institution for Savings | Sanford | ME
7619 | Claremont Savings Bank | Claremont | NH
54815 | Peerless Insurance Company | Keene | NH
7994 | Meredith Village Savings Bank | Meredith | NH
15376 | Triangle Credit Union | Nashua | NH
7444 | Sugar River Bank | Newport | NH
7644 | Lake Sunapee Bank, FSB | Newport | NH
8454 | Piscataqua Savings Bank | Portsmouth | NH
14505 | SERVICE CREDIT UNION | Portsmouth | NH
9487 | The Washington Trust Company | Westerly | RI
5214 | The Bank of Bennington | Bennington | VT
14666 | Heritage Family Federal Credit Union | Rutland | VT
10324 | PASSUMPSIC SAVINGS BANK | St. Johnsbury | VT
Federal Home Loan Bank of New York—District 2
54841 | XCEL Federal Credit Union | Bloomfield | NJ
1997 | Clifton Savings Bank | Clifton | NJ
52005 | The First National Bank of Elmer | Elmer | NJ
10909 | Sussex Bank | Franklin | NJ
54812 | New Jersey Community Bank | Freehold | NJ
1168 | Haddon Savings Bank | Haddon Heights | NJ
10329 | First Hope Bank, A National Banking Association | Hope | NJ
54868 | Regal Bank | Livingston | NJ
54869 | Community Bank of Bergen County, N.J | Maywood | NJ
4804 | Gibraltar Bank | Mendham | NJ
5775 | Magyar Bank | New Brunswick | NJ
54842 | Rutgers Federal Credit Union | New Brunswick | NJ
11225 | New Community Federal Credit Union | Newark | NJ
12260 | Lusitania Savings Bank | Newark | NJ
54921 | Newfield National Bank | Newfield | NJ
54946 | Garden Savings Federal Credit Union | Parsippany | NJ
5286 | Franklin Bank | Pilesgrove | NJ
14006 | RSI Bank | Rahway | NJ
54935 | Merck Employees Federal Credit Union | Rahway | NJ
54908 | Automatic Data Processing Federal Credit Union | Roseland | NJ
16841 | Parke Bank | Sewell | NJ
4752 | Monroe Savings Bank, SLA | Williamstown | NJ
54806 | Capital Communications Federal Credit Union | Albany | NY
55336 | Horizons Federal Credit Union | Binghamton | NY
6509 | Ponce de Leon Federal Bank | Bronx | NY
54928 | BETHEX Federal Credit Union | Bronx | NY
11394 | Manufacturers and Traders Trust Company | Buffalo | NY
54804 | Buffalo Service Credit Union | Buffalo | NY
54805 | The National Bank of Coxsackie | Coxsackie | NY
4652 | Fairport Savings Bank | Fairport | NY
54881 | Triboro Postal Federal Credit Union | Flushing | NY
13348 | Fulton Savings Bank | Fulton | NY
7635 | TrustCo Bank | Glenville | NY
16928 | Bank of Holland | Holland | NY
11757 | Steuben Trust Company | Hornell | NY
10675 | New York Commercial Bank | Islandia | NY
7954 | Ulster Savings Bank | Kingston | NY
4115 | Astoria Bank | Long Island City | NY
9790 | Suffolk Federal Credit Union | Medford | NY
2201 | First Federal Savings of Middletown | Middletown | NY
54862 | Greater Hudson Bank, National Association | Middletown | NY
54863 | Bank of Millbrook | Millbrook | NY
54945 | First Source Federal Credit Union | New Hartford | NY
9297 | Amalgamated Bank | New York | NY
10769 | United Orient Bank | New York | NY
11840 | Habib American Bank | New York | NY
55328 | Modern Bank, National Association | New York | NY
55380 | New York University Federal Credit Union | New York | NY
54956 | Olean Area Federal Credit Union | Olean | NY
54968 | First Heritage Federal Credit Union | Painted Post | NY
15207 | Pittsford Federal Credit Union | Pittsford | NY
54902 | Ufirst Federal Credit Union | Plattsburgh | NY
13972 | Bank of Richmondville | Richmondville | NY
54917 | Ukrainian Federal Credit Union | Rochester | NY
11750 | Solvay Bank | Solvay | NY
2197 | Northfield Bank | Staten Island | NY
54884 | Cayuga Lake National Bank | Union Springs | NY
13853 | Walden Savings Bank | Walden | NY
10385 | Champlain National Bank | Willsboro | NY
Federal Home Loan Bank of Pittsburgh—District 3
55397 | Dover Federal Credit Union | Dover | DE
7938 | Wilmington Savings Fund Society, FSB | Wilmington | DE
54798 | Genworth Life Insurance Company | Wilmington | DE
4779 | C & G Savings Bank | Altoona | PA
2179 | Ambler Savings Bank | Ambler | PA
2457 | First FS & LA of Bucks Co | Bristol | PA
4256 | Alliance Bank | Broomall | PA
55356 | Franklin Mint Federal Credit Union | Broomall | PA
955 | Cresson Community Bank | Cresson | PA
2376 | Sharon Savings Bank | Darby | PA
55333 | Noah Bank | Elkins Park | PA
148 | ESB Bank | Ellwood City | PA
55395 | Erie Federal Credit Union | Erie | PA
3136 | County Savings Bank | Essington | PA
16540 | Stonebridge Bank | Exton | PA
55340 | Belco Community Credit Union | Harrisburg | PA
2563 | Fox Chase Bank | Hatboro | PA
4859 | Hatboro Federal Savings, FA | Hatboro | PA
10146 | The Dime Bank | Honesdale | PA
9686 | Jersey Shore State Bank | Jersey Shore | PA
299 | William Penn Bank | Levittown | PA
55361 | National Slovak Society of United States of America | McMurray | PA
416 | Malvern Federal Savings Bank | Paoli | PA
5285 | First Savings Bank of Perkasie | Perkasie | PA
3217 | Washington Savings Bank | Philadelphia | PA
3776 | Second FS & LA of Philadelphia | Philadelphia | PA
17055 | Asian Bank | Philadelphia | PA
4504 | Phoenixville Federal Bank & Trust | Phoenixville | PA
495 | Progressive-Home FS & LA | Pittsburgh | PA
54787 | Miners Bank | Pottsville | PA
55415 | CACL Federal Credit Union | Pottsville | PA
15604 | QNB Bank | Quakertown | PA
9674 | Mercer County State Bank | Sandy Lake | PA
111 | Slovenian S & LA of Canonsburg | Strabane | PA
10126 | First Century Bank, Inc | Bluefield | WV
13788 | Pioneer Community Bank, Inc | Iaeger | WV
9635 | Bank of Mount Hope, Inc | Mount Hope | WV
9628 | Community Bank of Parkersburg | Parkersburg | WV
15891 | First Neighborhood Bank | Spencer | WV
15579 | Pleasants County Bank | St. Marys | WV
13741 | The Poca Valley Bank | Walton | WV
16975 | MCNB Bank and Trust Company | Welch | WV
16820 | Wesbanco Bank, Inc | Wheeling | WV
17656 | The First National Bank of Williamson | Williamson | WV
54976 | Bank of Mingo | Williamson | WV
Federal Home Loan Bank of Atlanta—District 4
11147 | CCB Community Bank | Andalusia | AL
13590 | United Bank | Atmore | AL
9177 | AuburnBank | Auburn | AL
52008 | First Financial Bank | Bessemer | AL
17005 | Alamerica Bank | Birmingham | AL
55399 | Alabama Telco Credit Union | Birmingham | AL
4877 | Cullman Savings Bank | Cullman | AL
11094 | The Citizens Bank | Enterprise | AL
17703 | Alabama Teachers Credit Union | Gadsden | AL
11078 | Merchants Bank | Jackson | AL
9676 | Farmers and Merchants Bank | Lafayette | AL
55331 | Max Credit Union | Montgomery | AL
15710 | Valley State Bank | Russellville | AL
15506 | Sweet Water State Bank | Sweet Water | AL
5329 | SouthFirst Bank | Sylacauga | AL
54927 | Heritage South Credit Union | Sylacauga | AL
14230 | The First National Bank of Talladega | Talladega | AL
16838 | First Bank | Wadley | AL
15879 | CITY FIRST BANK OF D.C., N.A | Washington | DC
55327 | O.A.S. Staff Federal Credit Union | Washington | DC
55401 | Transit Employees Federal Credit Union | Washington | DC
55359 | IBM Southeast Employees' Federal Credit Union | Boca Raton | FL
12202 | Mackinac Savings Bank, FSB | Boynton Beach | FL
13673 | First Bank | Clewiston | FL
15687 | First National Bank of Crestview | Crest View | FL
9446 | Regent Bank | Davie | FL
15772 | LANDMARK BANK, N.A | Fort Lauderdale | FL
11266 | First City Bank of Florida | Fort Walton Beach | FL
9702 | Desjardins Bank, National Association | Hallandale | FL
15576 | Publix Employees' Federal CU | Lakeland | FL
6707 | First Federal Bank of Florida | Live Oak | FL
7506 | Interamerican Bank, A FSB | Miami | FL
13285 | Helm Bank USA | Miami | FL
15094 | Tropical Financial Credit Union | Miami | FL
17154 | Totalbank | Miami | FL
17512 | Terrabank, N.A | Miami | FL
54820 | Florida Community Bank N.A | Miami | FL
54846 | Capital Bank N.A | Miami | FL
55330 | Magnify Credit Union | Mulberry | FL
17442 | Friends Bank | New Smyrna Beach | FL
13943 | American National Bank | Oakland Park | FL
17832 | Pinnacle Bank | Orange City | FL
15860 | CNL Bank | Orlando | FL
55396 | New Traditions Bank | Orlando | FL
54959 | Panhandle Educators Federal Credit Union | Panama City | FL
17743 | Pen Air Federal Credit Union | Pensacola | FL
17074 | Heartland National Bank | Sebring | FL
16811 | First Home Bank | Seminole | FL
12002 | Raymond James Bank, National Association | St. Petersburg | FL
17339 | First Commerce Credit Union | Tallahassee | FL
16837 | First Citrus Bank | Tampa | FL
16848 | Bay Cities Bank | Tampa | FL
17707 | Grow Financial Federal Credit Union | Tampa | FL
17754 | Florida Capital Bank, N.A | Tarpon Springs | FL
13655 | United Southern Bank | Umatilla | FL
15630 | Marine Bank and Trust | Vero Beach | FL
15863 | Wilcox County State Bank | Abbeville | GA
13649 | Citizens Trust Bank | Atlanta | GA
52166 | Georgia Banking Company | Atlanta | GA
55322 | Blue Cross and Blue Shield of Georgia, Inc | Atlanta | GA
10976 | United Community Bank | Blairsville | GA
54809 | Community and Southern Bank | Carrollton | GA
54810 | NOA Bank | Duluth | GA
55367 | Georgia United Credit Union | Duluth | GA
13338 | The Peoples Bank | Eatonton | GA
17513 | The Farmers Bank | Forsyth | GA
54952 | Chattahoochee Bank of Georgia | Gainesville | GA
8396 | South Georgia Bank | Glennville | GA
17735 | Delta Employees Credit Union | Hapeville | GA
11665 | SunMark Community Bank | Hawkinsville | GA
17550 | Community Bank of Pickens County | Jasper | GA
13331 | Northeast Georgia Bank | Lavonia | GA
52026 | LGE Community Credit Union | Marietta | GA
17111 | The Merchants And Citizens Bank | McRae | GA
9572 | Southwest Georgia Bank | Moultrie | GA
3330 | Family Bank | Pelham | GA
15093 | The Citizens National Bank of Quitman | Quitman | GA
16925 | Southern Bank | Sardis | GA
17440 | Community Bank of The South | Smyrna | GA
15711 | Quantum National Bank | Suwanee | GA
15609 | First Bank of Georgia | Thomson | GA
17306 | South Georgia Banking Company | Tifton | GA
13138 | Citizens Bank & Trust | Trenton | GA
17630 | Durden Banking Company, Inc | Twin City | GA
52066 | Robins Federal Credit Union | Warner Robins | GA
10426 | Farmers and Merchants Bank | Washington | GA
4295 | Kopernik Federal Bank | Baltimore | MD
4400 | Liberty FS & LA | Baltimore | MD
8386 | Bay-Vanguard FSB | Baltimore | MD
14741 | State Employees Credit Union of Md | Baltimore | MD
16943 | Eaglebank | Bethesda | MD
6420 | Cecil Bank | Elkton | MD
8954 | Lafayette Federal Credit Union | Kensington | MD
15520 | FedChoice Federal Credit Union | Lanham | MD
54929 | Bay Bank, FSB | Lutherville | MD
10579 | First United Bank & Trust | Oakland | MD
6390 | North Arundel Savings Bank, FSB | Pasadena | MD
12215 | Provident State Bank , Inc | Preston | MD
54873 | Andrews Federal Credit Union | Suitland | MD
54839 | Carroll Community Bank | Sykesville | MD
9693 | Uwharrie Bank | Albemarle | NC
13322 | Mechanics and Farmers Bank | Durham | NC
6981 | Macon Bank, Inc | Franklin | NC
10327 | Farmers & Merchants Bank | Granite Quarry | NC
15549 | Carolina Bank | Greensboro | NC
6776 | Hertford Savings Bank, SSB | Hertford | NC
54886 | Shuford Federal Credit Union | Hickory | NC
54905 | Coastal Bank & Trust | Jacksonville | NC
4066 | KS Bank | Kenly | NC
15790 | The Little Bank | Kinston | NC
15553 | State Employees' Credit Union | Raleigh | NC
16389 | Paragon Commercial Bank | Raleigh | NC
54867 | Builders Mutual Insurance Company | Raleigh | NC
8170 | Taylorsville Savings Bank, SSB | Taylorsville | NC
17027 | Cornerstone Bank | Wilson | NC
54896 | Piedmont Advantage Credit Union | Winston Salem | NC
7450 | Home FS & LA | Bamberg | SC
54932 | CertusBank, N.A | Easley | SC
16944 | First Reliance Bank | Florence | SC
13511 | Bank of Greeleyville | Greeleyville | SC
55400 | MTC Federal Credit Union | Greenville | SC
13478 | The County Bank | Greenwood | SC
7583 | Citizens B & La | Greer | SC
11166 | Greer State Bank | Greer | SC
15676 | First National Bank of South Carolina | Holly Hill | SC
3534 | Kingstree FS & LA | Kingstree | SC
13654 | The Bank of Clarendon | Manning | SC
15898 | Southcoast Community Bank | Mount Pleasant | SC
13430 | Anderson Brothers Bank | Mullins | SC
54920 | Coastal Carolina National Bank | Myrtle Beach | SC
16814 | Heritage Trust Federal Credit Union | North Charleston | SC
6359 | Pickens S & La, FA | Pickens | SC
15629 | GrandSouth Bank | Simpsonville | SC
10996 | Bank of Travelers Rest | Travelers Rest | SC
5848 | E*Trade Bank | Arlington | VA
15735 | The Blue Grass Valley Bank | Blue Grass | VA
10229 | The Bank of Southside Virginia | Carson | VA
16931 | Access National Bank | Chantilly | VA
55398 | University of VA Community Credit Union | Charlottesville | VA
15256 | Apple Federal Credit Union | Fairfax | VA
17006 | Bank of The James | Lynchburg | VA
13526 | Lee Bank and Trust Company | Pennington Gap | VA
54965 | New Horizon Bank, National Association | Powhatan | VA
7612 | First Sentinel Bank | Richlands | VA
55321 | Anthem Health Plans of Virginia, Inc | Richmond | VA
55334 | Washington Gas Light Federal Credit Union | Springfield | VA
10684 | First Bank | Strasburg | VA
15918 | Navy Federal Credit Union | Vienna | VA
16372 | Farmers Bank | Windsor | VA
Federal Home Loan Bank of Cincinnati—District 5
10872 | WILSON & MUIR BANK & TRUST | Bardstown | KY
11172 | Town & Country Bank and Trust Company | Bardstown | KY
9598 | BANK OF OHIO COUNTY | Beaver Dam | KY
11482 | BEDFORD LOAN & DEPOSIT BANK | Bedford | KY
8785 | MEADE COUNTY BANK | Brandenburg | KY
10994 | BANK OF CADIZ & TRUST CO | Cadiz | KY
10979 | BANK OF COLUMBIA | Columbia | KY
15638 | Kentucky Neighborhood Bank | Elizabethtown | KY
10588 | Peoples Bank of Kentucky, Inc | Flemingsburg | KY
8982 | THE FARMERS BANK | Hardinsburg | KY
15516 | HANCOCK BANK & TRUST CO | Hawesville | KY
10834 | PEOPLES BANK & TRUST OF HAZARD | Hazard | KY
4727 | Heritage Bank | Hopkinsville | KY
14982 | PLANTERS BANK INC. | Hopkinsville | KY
15597 | BANK OF JAMESTOWN | Jamestown | KY
8979 | LEITCHFIELD DEPOSIT BK & TR | Leitchfield | KY
11038 | CENTRAL BANK & TRUST CO | Lexington | KY
9939 | COMMONWEALTH BANK & TRUST Co | Louisville | KY
14485 | L&N Federal Credit Union | Louisville | KY
54851 | Class Act Federal Credit Union | Louisville | KY
54898 | Louisville Gas and Electric Company Credit Union | Louisville | KY
13658 | FARMERS BANK AND TRUST CO | Marion | KY
13745 | The Monticello Banking Company | Monticello | KY
15025 | SOUTH CENTRAL BANK | Owensboro | KY
6361 | Blue Grass FS & LA | Paris | KY
10796 | 1ST COMMONWEALTH BK OF PRESTONBURG | Prestonsburg | KY
9695 | First & Farmers National Bank, Inc | Somerset | KY
54918 | Lakeview Federal Credit Union | Ashtabula | OH
54934 | Community First | Ashtabula | OH
5846 | BELPRE SAVINGS BANK | Belpre | OH
8094 | Community Savings Bank | Bethel | OH
4440 | Equitable S & L Co | Cadiz | OH
54988 | Canton School Employees Credit Union | Canton | OH
2753 | First FS & LA | Centerburg | OH
644 | Mt. Washington Savings & Loan | Cincinnati | OH
709 | GUARDIAN SAVINGS BANK FSB | Cincinnati | OH
5337 | Eagle Savings Bank | Cincinnati | OH
8109 | UNION SAVINGS BANK | Cincinnati | OH
10572 | Cinfed Federal Credit Union | Cincinnati | OH
11523 | U.S. Bank, National Association | Cincinnati | OH
54924 | Steel Valley Federal Credit Union | Cleveland | OH
55358 | American Mutual Life Association | Cleveland | OH
11029 | FIRST COMMUNITY BANK | Columbus | OH
54825 | Nationwide Mutual Insurance Company | Columbus | OH
54899 | Safe Auto Insurance Company | Columbus | OH
2123 | CONNEAUT SAVINGS BANK | Conneaut | OH
15996 | THE CORN CITY STATE BANK | Deshler | OH
13772 | THE FORT JENNINGS STATE BAN | Fort Jennings | OH
8123 | Galion Building and Loan Bank | Galion | OH
11142 | Greenville National Bank | Greenville | OH
15867 | HAMLER STATE BANK | Hamler | OH
4171 | First FS & LA | Lorain | OH
15551 | THE FAHEY BANKING COMPANY | Marion | OH
16831 | Sun Federal Credit Union | Maumee | OH
16307 | The Vinton County N.B. of McArthur | McArthur | OH
15883 | The Citizens N. B. of McConnelsville | McConnelsville | OH
4287 | The American Savings Bank | Middletown | OH
54782 | The Peoples Savings Bank | New Matamoras | OH
8095 | GEAUGA SAVINGS BANK | Newbury | OH
13782 | First National Bank | Orrville | OH
15680 | THE REPUBLIC BANKING CO | Republic | OH
3280 | Ripley Federal Savings Bank | Ripley | OH
4519 | MUTUAL FEDERAL SAVINGS BANK | Sidney | OH
4215 | SSB Community Bank | Strasburg | OH
2969 | First FS & LA of Van Wert | Van Wert | OH
1260 | CFBank | Wellsville | OH
6068 | The Peoples S & L Co | West Liberty | OH
15707 | THE UNION BANKING CO | West Mansfield | OH
9759 | FARMERS STATE BANK | West Salem | OH
54938 | The Citizens National Bank of Woodsfield | Woodsfield | OH
54856 | Wayne Mutual Insurance Company | Wooster | OH
54802 | BCS Insurance Company | Worthington | OH
54803 | Plans' Liability Insurance Company | Worthington | OH
10726 | The Citizens NB of Athens | Athens | TN
13682 | BRIGHTON BANK | Brighton | TN
11469 | First Farmers and Merchants Bank | Columbia | TN
17016 | Community First Bank & Trust | Columbia | TN
10864 | BANK OF PUTNAM COUNTY | Cookeville | TN
6581 | Highland FS & LA | Crossville | TN
4081 | FIRST FEDERAL BANK | Dickson | TN
6842 | Security Federal Bank | Elizabethton | TN
11594 | TENNESSEE STATE BANK | Gatlinburg | TN
10625 | BANK OF HALLS | Halls | TN
11527 | COMMERCIAL BANK | Harrogate | TN
10331 | CARROLL BANK & TRUST | Huntingdon | TN
11182 | UNION BANK | Jamestown | TN
11347 | BANK OF TENNESSEE | Kingsport | TN
11468 | FIRST BANK | Lexington | TN
17798 | Peoples Bank of East Tennessee | Madisonville | TN
9274 | First National Bank of Manchester | Manchester | TN
15760 | THE COFFEE COUNTY BANK | Manchester | TN
15836 | Orion Federal Credit Union | Memphis | TN
15800 | JOHNSON COUNTY BANK | Mountain City | TN
16980 | National Bank of Tennessee | Newport | TN
10900 | THE FARMERS BANK | Portland | TN
7159 | CENTRAL BANK | Savannah | TN
13733 | HOME BANKING CO | Selmer | TN
11231 | 1ST COMMUNITY BK OF BEDFORD | Shelbyville | TN
10838 | Farmers and Merchants Bank | Trezevant | TN
11323 | AMERICAN CITY BANK | Tullahoma | TN
11133 | REELFOOT BANK | Union City | TN
Federal Home Loan Bank of Indianapolis—District 6
54811 | Guggenheim Life and Annuity Company | West Des Moines | IA
2781 | BEDFORD FSB | Bedford | IN
11268 | The Franklin County NB of Brookville | Brookville | IN
4433 | First Savings Bank, FSB | Clarksville | IN
12241 | First National Bank | Cloverdale | IN
54972 | Tech Credit Union | Crown Point | IN
3676 | UNITED FIDELITY BANK | Evansville | IN
9375 | FOWLER STATE BANK | Fowler | IN
16939 | Freedom Bank | Huntingburg | IN
3892 | First Federal Savings Bank | Huntington | IN
13671 | Finance Center Federal Credit Union | Indianapolis | IN
54853 | ACA Insurance Company | Indianapolis | IN
54854 | Western United Insurance Company | Indianapolis | IN
54911 | Athene Life Insurance Company | Indianapolis | IN
54939 | Paragon Life Insurance Company of Indiana | Indianapolis | IN
10677 | THE CAMPBELL AND FETTER BANK | Kendallville | IN
3767 | United Community Bank | Lawrenceburg | IN
1856 | River Valley Financial Bank | Madison | IN
11002 | FIRST STATE BANK OF MIDDLEBURY | Middlebury | IN
4674 | Peoples S & LA of Monticello Indiana | Monticello | IN
2611 | Your Community Bank | New Albany | IN
2798 | Ameriana Bank | New Castle | IN
11809 | THE NEW WASHINGTON STATE BANK | New Washington | IN
13790 | SPENCER COUNTY BANK | Santa Claus | IN
15023 | JACKSON COUNTY BANK, SEYMOUR | Seymour | IN
10938 | TERRE HAUTE SAVINGS BANK | Terre Haute | IN
2091 | Homestead Savings Bank | Albion | MI
13785 | Talmer West Bank | Ann Arbor | MI
11858 | SIGNATURE BANK—BAD AXE | Bad Axe | MI
11663 | LAKE OSCEOLA STATE BANK | Baldwin | MI
11808 | CENTRAL STATE BANK | Beulah | MI
14972 | CHARLEVOIX STATE BANK, CHARLEVOIX | Charlevoix | MI
11446 | EASTERN MICHIGAN BANK | Croswell | MI
4241 | DEARBORN FSB | Dearborn | MI
11533 | STATE BANK OF EWEN | Ewen | MI
54961 | Bank of Michigan | Farmington Hills | MI
54992 | Security Credit Union | Flint | MI
14453 | Option 1 Credit Union | Grand Rapids | MI
16976 | PAC Federal Credit Union | Hamtramck | MI
16222 | Capitol National Bank | Lansing | MI
54808 | Lake Trust Credit Union | Lansing | MI
13742 | STATE SAVINGS BANK OF MANISTIQUE | Manistique | MI
10973 | MASON STATE BANK | Mason | MI
11375 | The First National Bank of Norway | Norway | MI
55382 | The Citizens State Bank of Ontonagon | Ontonagon | MI
14717 | Community Financial Credit Union | Plymouth | MI
14718 | Team One Credit Union | Saginaw | MI
11332 | WEST SHORE BANK | Scottville | MI
13603 | SIDNEY STATE BANK | Sidney | MI
8028 | STERLING BANK & TRUST | Southfield | MI
54962 | Star Insurance Company | Southfield | MI
54963 | Williamsburg National Insurance Company | Southfield | MI
54964 | Ameritrust Insurance Corporation | Southfield | MI
8412 | FLAGSTAR BANK, FSB | Troy | MI
Federal Home Loan Bank of Chicago—District 7
52110 | Andalusia Community Bank | Andalusia | IL
16587 | Village Bank and Trust | Arlington Heights | IL
55371 | Athens State Bank | Athens | IL
54913 | Redbrand Credit Union | Bartonville | IL
11128 | Heartland Bank and Trust Company | Bloomington | IL
54828 | Country Mutual Insurance Company | Bloomington | IL
11022 | Peoples Bank of Kankakee County | Bourbonnais | IL
14583 | Bridgeview Bank Group | Bridgeview | IL
52030 | United Trust Bank | Bridgeview | IL
54837 | SIU Credit Union | Carbondale | IL
11023 | United Community Bank | Chatham | IL
10892 | Amalgamated Bank of Chicago | Chicago | IL
11442 | ABC Bank | Chicago | IL
15540 | Burling Bank | Chicago | IL
54860 | Bankers Life and Casualty Company | Chicago | IL
55323 | Selfreliance Ukrainian American Federal Credit Union | Chicago | IL
55329 | Continental Casualty Company | Chicago | IL
55360 | United Insurance Company of America | Chicago | IL
55394 | The Federal Savings Bank | Chicago | IL
54923 | Maroon Financial Credit Union | Chicago | IL
55376 | Urban Partnership Bank | Chicago | IL
15501 | Countryside Bank | Countryside | IL
2229 | First Savings Bank | Danville | IL
3128 | Washington Savings Bank | Effingham | IL
15512 | Midland States Bank | Effingham | IL
11088 | First American Bank | Elk Grove Village | IL
55373 | Forest Park National Bank and Trust Company | Forest Park | IL
2946 | Union Savings Bank | Freeport | IL
11563 | Central Bank Illinois | Geneseo | IL
15500 | Bank Of Gibson City | Gibson City | IL
15785 | NorthSide Community Bank | Gurnee | IL
15641 | Parkway Bank and Trust Company | Harwood Heights | IL
15600 | North Central Bank | Hennepin | IL
15537 | State Bank Of Herscher | Herscher | IL
54865 | First Bank of Highland Park | Highland Park | IL
1146 | Jacksonville Savings Bank | Jacksonville | IL
11417 | The Farmers State Bank and Trust Company | Jacksonville | IL
17061 | Bank of Kampsville | Kampsville | IL
244 | Union Federal Savings and Loan Association | Kewanee | IL
3756 | First Federal Savings and Loan Association of Kewanee | Kewanee | IL
17247 | Midland Community Bank | Kincaid | IL
17354 | La Salle State Bank | La Salle | IL
16933 | First Southern Bank | Marion | IL
15784 | Citizens Community Bank | Mascoutah | IL
412 | First Federal Savings and Loan Association of Mattoon | Mattoon | IL
15586 | Middletown State Bank | Middletown | IL
11017 | Blackhawk Bank and Trust | Milan | IL
17375 | First Farmers State Bank | Minier | IL
52145 | I.H. Mississippi Valley Credit Union | Moline | IL
15612 | First State Bank | Monticello | IL
54925 | Oak Trust Credit Union | Naperville | IL
11032 | Oxford Bank & Trust | Oak Brook | IL
17811 | The Leaders Bank | Oak Brook | IL
54998 | Evergreen Bank Group | Oak Brook | IL
55372 | 4 Ever Life Insurance Company | Oakbrook Terrace | IL
15548 | The First National Bank of Okawville | Okawville | IL
17867 | Federated Bank | Onarga | IL
16923 | The First National Bank of Ottawa | Ottawa | IL
11609 | The Edgar County Bank and Trust Co., Paris, Illinois | Paris | IL
17118 | The State Bank of Pearl City | Pearl City | IL
17342 | Pekin National Bank | Pekin | IL
3367 | Peru Federal Savings Bank | Peru | IL
14569 | First National Bank in Pinckneyville | Pinckneyville | IL
17264 | Murphy-Wall State Bank and Trust Company | Pinckneyville | IL
10913 | Mercantile Bank | Quincy | IL
11082 | State Street Bank and Trust Company | Quincy | IL
17604 | Bank of Quincy | Quincy | IL
5696 | North County Savings Bank | Red Bud | IL
17334 | State Bank of Saunemin | Saunemin | IL
5029 | First Savanna Savings Bank | Savanna | IL
17197 | Heritage Bank of Schaumburg | Schaumburg | IL
11562 | First State Bank Shannon-Polo | Shannon | IL
17285 | The First National Bank of Sparta | Sparta | IL
175 | Security Bank s.b | Springfield | IL
17248 | Illinois National Bank | Springfield | IL
55392 | Heartland Credit Union | Springfield | IL
55341 | First National Bank of Steeleville | Steeleville | IL
17603 | Sauk Valley Bank & Trust Company | Sterling | IL
14586 | Stillman BancCorp N.A | Stillman Valley | IL
12025 | Centrue Bank | Streator | IL
15738 | The National Bank and Trust Company of Sycamore | Sycamore | IL
17768 | American Midwest Bank | Sycamore | IL
9735 | Citizens First State Bank of Walnut | Walnut | IL
11093 | State Bank of Waterloo | Waterloo | IL
108 | North Shore Trust and Savings | Waukegan | IL
52153 | American Community Bank & Trust | Woodstock | IL
691 | Prospect Federal Savings Bank | Worth | IL
11561 | Jackson County Bank | Black River Falls | WI
16957 | Dairyland State Bank | Bruce | WI
9868 | State Bank of Cross Plains | Cross Plains | WI
55379 | Settlers Bank | De Forest | WI
54880 | Southern Lakes Credit Union | Kenosha | WI
54831 | Pioneer Bank of Wisconsin | Ladysmith | WI
55348 | Central City Credit Union | Marshfield | WI
54978 | WESTconsin Credit Union | Menomonie | WI
55383 | Park City Credit Union | Merrill | WI
55324 | Choice bank | Oshkosh | WI
17766 | National Bank of Commerce | Superior | WI
5484 | Tomahawk Community Bank S.S.B | Tomahawk | WI
Federal Home Loan Bank of Des Moines—District 8
17002 | Security State Bank | Algona | IA
16186 | Farmers Savings Bank | Beaman | IA
15624 | Farmers Trust and Savings Bank | Buffalo Center | IA
54814 | State Bank of Bussey | Bussey | IA
54847 | Cedar Falls Community Credit Union | Cedar Falls | IA
54910 | United Fire & Casualty Company | Cedar Rapids | IA
54937 | United Life Insurance Company | Cedar Rapids | IA
54824 | North Star | Cherokee | IA
15922 | Clear Lake Bank and Trust Company | Clear Lake | IA
15821 | Gateway State Bank | Clinton | IA
11132 | Peoples Trust & Savings Bank | Clive | IA
10771 | C US Bank | Cresco | IA
13743 | Denver Savings Bank | Denver | IA
54971 | Premier Credit Union | Des Moines | IA
54970 | Des Moines Police Officers Credit Union | Des Moines | IA
10949 | De Witt Bank & Trust Co | Dewitt | IA
15752 | Premier Bank | Dubuque | IA
15849 | Liberty Trust & Savings Bank | Durant | IA
15720 | Farmers Trust & Savings Bank | Earling | IA
13799 | Hardin County Savings Bank | Eldora | IA
13612 | Bank Plus | Estherville | IA
15762 | NorthStar Bank | Estherville | IA
15692 | Fort Madison Bank & Trust Co | Fort Madison | IA
15663 | Security Savings Bank | Gowrie | IA
13627 | Midstates Bank, National Association | Harlan | IA
9204 | Hills Bank and Trust Company | Hills | IA
15780 | First State Bank | Ida Grove | IA
15887 | Peoples Savings Bank | Indianola | IA
13677 | Iowa Falls State Bank | Iowa Falls | IA
14723 | Charter Bank | Johnston | IA
17084 | Kingsley State Bank | Kingsley | IA
15644 | Kerndt Brothers Savings Bank | Lansing | IA
16806 | Laurens State Bank | Laurens | IA
10669 | Libertyville Savings Bank | Libertyville | IA
15886 | First State Bank | Lynnville | IA
15806 | First National Bank of Manning | Manning | IA
15673 | Valley Bank & Trust | Mapleton | IA
9612 | Maquoketa State Bank | Maquoketa | IA
15541 | Maynard Savings Bank | Maynard | IA
55384 | Montezuma State Bank | Montezuma | IA
15709 | Wayland State Bank | Mount Pleasant | IA
13676 | Mount Vernon Bank & Trust Company | Mount Vernon | IA
10076 | Community Bank and Trust Company | Muscatine | IA
16785 | Community Bank of Oelwein | Oelwein | IA
54892 | The Home Trust & Savings Bank | Osage | IA
11327 | TruBank | Oskaloosa | IA
16800 | Guthrie County State Bank | Panora | IA
17701 | Tri-Valley Bank | Randolph | IA
17256 | Houghton State Bank | Red Oak | IA
15434 | Peoples Bank | Rock Valley | IA
15859 | Rolfe State Bank | Rolfe | IA
17257 | County Bank | Sigourney | IA
16951 | South Story Bank & Trust | Slater | IA
17202 | Citizens Savings Bank | Spillville | IA
15573 | St. Ansgar State Bank | St. Ansgar | IA
17047 | Central State Bank | State Center | IA
15596 | Victor State Bank | Victor | IA
10977 | Washington State Bank | Washington | IA
17023 | Federation Bank | Washington | IA
17028 | The Watkins Savings Bank | Watkins | IA
15822 | West Iowa Bank | West Bend | IA
11001 | FIDELITY BANK | West Des Moines | IA
11064 | State Savings Bank | West Des Moines | IA
13639 | Bank Iowa | West Des Moines | IA
15039 | GuideOne Mutual Insurance Company | West Des Moines | IA
17649 | Farmers State Bank | Yale | IA
13709 | Sterling State Bank | Austin | MN
16211 | State Bank of Danvers | Benson | MN
15781 | First Farmers & Merchants Bank | Cannon Falls | MN
13638 | Currie State Bank | Currie | MN
13708 | State Bank of Delano | Delano | MN
7949 | Voyager Bank | Eden Prairie | MN
17425 | New Market Bank | Elko New Market | MN
6607 | 1st United Bank | Faribault | MN
54826 | The Gary State Bank | Gary | MN
15593 | Border State Bank | Greenbush | MN
15514 | Citizens State Bank of Hayfield | Hayfield | MN
54878 | Hermantown Federal Credit Union | Hermantown | MN
15763 | Farmers State Bank of Hoffman | Hoffman | MN
15625 | Key Community Bank | Inver Grove Heights | MN
17267 | Kasson State Bank | Kasson | MN
2828 | Lake City Federal Bank | Lake City | MN
13604 | Lake Area Bank | Lindstrom | MN
17622 | Peoples State Bank of Madison Lake | Madison Lake | MN
54912 | Minnesota Valley Federal Credit Union | Mankato | MN
17546 | TopLine Federal Credit Union | Maple Grove | MN
54893 | Wilton Reassurance Company | Minneapolis | MN
15570 | First National Bank of Moose Lake | Moose Lake | MN
15851 | United Prairie Bank | Mountain Lake | MN
10623 | American Bank of the North | Nashwauk | MN
10884 | State Bank of New Prague | New Prague | MN
10870 | ProGrowth Bank | Nicollet | MN
54906 | Home Town Federal Credit Union | Owatonna | MN
17012 | Lakes State Bank | Pequot Lakes | MN
55368 | Trustone Financial Federal Credit Union | Plymouth | MN
17142 | Bankwest | Rockford | MN
15719 | Citizens State Bank of Roseau | Roseau | MN
6335 | St James Federal Savings and Loan Association | Saint James | MN
17007 | Affinity Plus Federal Credit Union | Saint Paul | MN
17516 | BankVista | Sartell | MN
17207 | Village Bank | St. Francis | MN
17393 | Sentry Bank | St. Joseph | MN
15509 | Nicollet County Bank of St. Peter (The) | St. Peter | MN
15884 | Farmers State Bank of Trimont | Trimont | MN
16579 | The First National Bank of Walker | Walker | MN
9662 | Roundbank | Waseca | MN
17362 | Welcome State Bank | Welcome | MN
17126 | Ultima Bank Minnesota | Winger | MN
10961 | Citizens Bank—Amsterdam | Amsterdam | MO
11336 | Community State Bank of Missouri | Bowling Green | MO
16958 | CBC Bank | Bowling Green | MO
16934 | First Community Bank of the Ozarks | Branson | MO
11419 | Pony Express Bank | Braymer | MO
17582 | Cass Commercial Bank | Bridgeton | MO
16924 | The Citizens-Farmers Bank of Cole Camp | Cole Camp | MO
10195 | Landmark Bank, National Association | Columbia | MO
54830 | Agents National Title Insurance Company | Columbia | MO
54859 | Columbia Mutual Insurance Company | Columbia | MO
55385 | Sherwood Community Bank | Creighton | MO
54876 | Mid Missouri Credit Union | Fort Leonard Wood | MO
13764 | New Era Bank | Fredericktown | MO
10775 | Bank Star One | Fulton | MO
9496 | Hawthorn Bank | Jefferson City | MO
11369 | Central Trust Bank (The) | Jefferson City | MO
16784 | United Missouri Insurance Company | Kansas City | MO
17033 | Old American Insurance Company | Kansas City | MO
17517 | Mazuma Credit Union | Kansas City | MO
15895 | Macon-Atlanta State Bank | Macon | MO
11008 | Regional Missouri Bank | Marceline | MO
11379 | Nodaway Valley Bank | Maryville | MO
12394 | Independent Farmers Bank | Maysville | MO
54843 | Community Bank of Memphis | Memphis | MO
11199 | Heritage State Bank | Nevada | MO
17569 | Bank of New Cambria | New Cambria | MO
17538 | First Bank of the Lake | Osage Beach | MO
15595 | HOMEBANK | Palmyra | MO
13841 | Citizens Community Bank | Pilot Grove | MO
17856 | Community Bank of Missouri | Richmond | MO
17401 | Legacy Bank & Trust Company | Rogersville | MO
17451 | Citizens Bank of Rogersville | Rogersville | MO
5106 | Pulaski Bank | Saint Louis | MO
54949 | Gateway Metro Federal Credit Union | Saint Louis | MO
15906 | Bank of Salem | Salem | MO
11134 | Merchants and Farmers Bank of Salisbury (The) | Salisbury | MO
17227 | People's Bank of Seneca | Seneca | MO
54990 | The Corner Stone Bank | South West City | MO
11292 | Empire Bank | Springfield | MO
15547 | Liberty Bank | Springfield | MO
54849 | Educational Community Credit Union | Springfield | MO
54875 | General American Life Insurance Company | St. Louis | MO
17650 | First Missouri Credit Union | St. Louis | MO
55386 | TH Insurance Holdings Company LLC | St. Louis | MO
17423 | First State Bank of St. Robert | St. Robert | MO
10137 | Bank Star of the BootHeel | Steele | MO
15518 | Tipton Latham Bank, National Association (The) | Tipton | MO
16967 | Royal Banks of Missouri | University City | MO
10542 | Meramec Valley Bank | Valley Park | MO
2338 | Quarry City Savings & Loan Association | Warrensburg | MO
17621 | First Central Bank | Warrensburg | MO
11216 | Bank of Washington | Washington | MO
17443 | Bank of Franklin County | Washington | MO
55366 | 1st Financial Federal Credit Union | Wentzville | MO
6753 | West Plains Savings & Loan Association | West Plains | MO
54936 | Turtle Mountain State Bank | Belcourt | ND
54897 | KodaBank | Drayton | ND
16966 | First Community Credit Union | Jamestown | ND
55344 | Railway Credit Union | Mandan | ND
10825 | The First and Farmers Bank | Portland | ND
54950 | Merchants Bank | Rugby | ND
16364 | The Bank of Tioga | Tioga | ND
13711 | First International Bank & Trust | Watford City | ND
55402 | Security Savings Bank | Canton | SD
54907 | Sentinel Federal Credit Union | Ellsworth AFB | SD
16799 | Farmers State Bank | Marion | SD
Federal Home Loan Bank of Dallas—District 9
8854 | SOUTHBank, FSB | Huntsville | AL
54801 | The Bank of Augusta | Augusta | AR
10449 | First National Bank of Crossett | Crossett | AR
11214 | Cornerstone Bank | Eureka Springs | AR
10598 | The Fnb of Fort Smith | Fort Smith | AR
16988 | Bank of Gravett | Gravett | AR
54832 | Horatio State Bank | Horatio | AR
9855 | First National Bank | Hot Springs | AR
11215 | Bank of Lake Village | Lake Village | AR
9592 | Bank of the Ozarks | Little Rock | AR
17015 | Capital Bank | Little Rock | AR
17036 | Eagle Bank & Trust Company | Little Rock | AR
9924 | First State Bank | Lonoke | AR
10787 | Malvern National Bank | Malvern | AR
11083 | Union Bank of Mena | Mena | AR
13507 | Bank of Salem | Salem | AR
10278 | First Security Bank | Searcy | AR
17294 | Citizens Bank & Trust Company | Van Buren | AR
13695 | Evolve Bank & Trust | West Memphis | AR
17149 | Fidelity National Bank | West Memphis | AR
54889 | Lakeside Bank | Lake Charles | LA
54982 | Baton Rouge Telco Credit Union | Baton Rouge | LA
55319 | ASI Federal Credit Union | Harahan | LA
11457 | Kaplan State Bank | Kaplan | LA
54955 | Vermilion Bank & Trust Company | Kaplan | LA
11447 | Sabine State B&T Company | Many | LA
16 | State-Investors Bank | Metairie | LA
54852 | Jefferson Financial | Metairie | LA
10901 | Progressive Bank | Monroe | LA
11399 | Exchange Bank & Trust Company | Natchitoches | LA
10886 | Liberty Bank and Trust Co | New Orleans | LA
57 | Home Federal Bank | Shreveport | LA
10808 | Sicily Island State Bank | Sicily Island | LA
11396 | St. Martin Bank & Trust Co | St. Martinville | LA
11229 | Concordia Bank & Trust Co | Vidalia | LA
10962 | Evangeline Bank & Trust | Ville Platte | LA
10821 | Citizens Bank & Trust Company | Vivian | LA
9754 | BankPlus | Belzoni | MS
6468 | First Southern Bank | Columbia | MS
11466 | Commercial Bank | Dekalb | MS
10896 | Community Bank of Mississippi | Forest | MS
11294 | Century Bank | Lucedale | MS
11309 | Great Southern National Bank | Meridian | MS
10752 | Newton County Bank | Newton | MS
11401 | FNB Oxford | Oxford | MS
10889 | Citizens Bank | Philadelphia | MS
11471 | Renasant Bank | Tupelo | MS
54916 | Rio Grande Credit Union | Albuquerque | NM
16992 | New Mexico Bank & Trust | Albuquerque | NM
54792 | U.S. New Mexico Federal Credit Union | Albuquerque | NM
54817 | New Mexico Mutual Casualty Company | Albuquerque | NM
55393 | Mountain States Mutual Casualty Company | Albuquerque | NM
10662 | The Carlsbad National Bank | Carlsbad | NM
55369 | The Bank of Clovis | Clovis | NM
11384 | Western Bank | Lordsburg | NM
450 | Pioneer Bank | Roswell | NM
11300 | Community Bank | Santa Fe | NM
11698 | The First National Bank of Santa Fe | Santa Fe | NM
10688 | Centinel Bank of Taos | Taos | NM
52424 | United Funeral Benefit Life Insurance Company | Oklahoma City | OK
54891 | Texas Advantage Community Bank, National Association | Alvin | TX
16768 | Texas Champion Bank | Alice | TX
10978 | Amarillo National Bank | Amarillo | TX
54795 | The Education Credit Union | Amarillo | TX
54788 | Worthington National Bank | Arlington | TX
16935 | First National Bank of Bellville | Bellville | TX
10799 | International Bank of Commerce | Brownsville | TX
11966 | Western Bank | Lubbock | TX
55404 | American Momentum Bank | College Station | TX
11670 | American National Bank | Corpus Christi | TX
16823 | Valuebank Texas | Corpus Christi | TX
11362 | Triumph Savings Bank, SSB | Dallas | TX
55375 | Trinity Universal Insurance Company | Dallas | TX
54790 | Prestige Community | Dallas | TX
55406 | Shell Federal Credit Union | Deer Park | TX
13594 | The Bank & Trust, SSB | Del Rio | TX
54890 | Security First Federal Credit Union | Edinburg | TX
9590 | WestStar Bank | El Paso | TX
16821 | Capital Bank, SSB | El Paso | TX
11206 | First National Bank of Fabens | Fabens | TX
16836 | Woodhaven National Bank | Fort Worth | TX
52018 | Texas Regional Bank | Harlingen | TX
17568 | Texas Bank | Henderson | TX
16968 | First National Bank of Hereford | Hereford | TX
9518 | Amegy Bank National Association | Houston | TX
14822 | New Era Life Insurance Company | Houston | TX
54857 | First Service Credit Union | Houston | TX
54904 | Primeway Federal Credit Union | Houston | TX
54864 | Cy-Fair Federal Credit Union | Houston | TX
55374 | SPCO Credit Union | Houston | TX
10026 | The Fnb of Hughes Springs | Hughes Springs | TX
10860 | First National Bank of Huntsville | Huntsville | TX
55364 | The Karnes County National Bank of Karnes City | Karnes City | TX
10788 | International Bank of Commerce | Laredo | TX
17822 | Security State Bank | Littlefield | TX
11470 | First State Bank of Livingston | Livingston | TX
16202 | First-Lockhart National Bank | Lockhart | TX
16989 | Community Bank | Longview | TX
17019 | City Bank | Lubbock | TX
55378 | Alliance Federal Credit Union | Lubbock | TX
17462 | Rio Bank | McAllen | TX
17347 | First National Bank of McGregor | McGregor | TX
17778 | Independent Bank | McKinney | TX
11790 | First Bank & Trust Of Memphis | Memphis | TX
17179 | Citizens State Bank | Miles | TX
17790 | Oglesby State Bank | Oglesby | TX
15567 | Crockett County National Bank | Ozona | TX
17035 | First State Bank | Paint Rock | TX
6301 | Interstate Bank, SSB | Perryton | TX
7589 | Cypress Bank, State Savings Bank | Pittsburg | TX
15546 | First Capital Bank | Quanah | TX
9671 | Benchmark Bank | Quinlan | TX
17645 | Bank Texas, National Association | Quitman | TX
11045 | Peoples State Bank | Rocksprings | TX
10985 | Texas State Bank | San Angelo | TX
11541 | San Antonio Federal Credit Union | San Antonio | TX
15825 | Frost Bank | San Antonio | TX
52190 | American Bank of Texas | Sherman | TX
54930 | The First National Bank of Shiner | Shiner | TX
17505 | First National Bank of Sonora | Sonora | TX
55365 | Houston Federal Credit Union | Sugar Land | TX
11263 | Commercial NB of Texarkana | Texarkana | TX
11033 | Southside Bank | Tyler | TX
10721 | American Bank, National Association | Waco | TX
9954 | Union Square Federal Credit Union | Wichita Falls | TX
54813 | Texoma Community Credit Union | Wichita Falls | TX
55347 | Hochheim Prairie Farm Mutual Insurance Association | Yoakum | TX
55381 | First State Bank | Yoakum | TX
10800 | International Bank Of Commerce | Zapata | TX
Federal Home Loan Bank of Topeka—District 10
54903 | Redstone Bank | Aurora | CO
14346 | Canon National Bank | Canon City | CO
54986 | Centennial Bank | Centennial | CO
15194 | Ent Federal Credit Union | Colorado Springs | CO
10779 | Guaranty Bank and Trust Co | Denver | CO
14275 | Public Service Employees Credit Union | Denver | CO
55337 | Northstar Bank of Colorado | Denver | CO
55355 | Bankers' Bank of the West | Denver | CO
54940 | Coors Credit Union | Golden | CO
54870 | Foothills Credit Union | Lakewood | CO
55352 | Minnequa Works Credit Union | Pueblo | CO
54861 | The Baldwin State Bank | Baldwin City | KS
13525 | Community State Bank | Coffeyville | KS
13646 | The Fnb of Conway Springs | Conway Springs | KS
4214 | Liberty SA, FSA | Fort Scott | KS
13537 | The City State Bank | Fort Scott | KS
54838 | The Fowler State Bank | Fowler | KS
55390 | Goppert State Service Bank | Garnett | KS
54793 | The Freeport State Bank | Harper | KS
54894 | Heartland Credit Union | Hutchinson | KS
11567 | FirstOak Bank | Independence | KS
54901 | The Johnson State Bank | Johnson | KS
54818 | Upland Mutual Insurance, Inc | Junction City | KS
15588 | Alterra Bank | Leawood | KS
55350 | Vintage Bank Kansas | Leon | KS
8990 | Kansas State Bank of Manhattan | Manhattan | KS
15637 | Stockgrowers State Bank | Maple Hill | KS
17714 | The Marion National Bank | Marion | KS
14782 | Citizens State Bank of Marysville | Marysville | KS
17554 | Farmers And Merchants Bank of Mound City | Mound City | KS
13613 | The Kansas State Bank | Overbrook | KS
17571 | Bank of Palmer | Palmer | KS
17597 | Farmers State Bank | Phillipsburg | KS
15622 | First National Bank in Pratt | Pratt | KS
17808 | Prescott State Bank | Prescott | KS
55405 | The Bank of Protection | Protection | KS
17089 | Astra Bank | Scandia | KS
15726 | The First National Bank of Scott City | Scott City | KS
54941 | SM Federal Credit Union | Shawnee Mission | KS
15669 | Centera Bank | Sublette | KS
54844 | Educational Credit Union | Topeka | KS
3042 | First Fs&la of Wakeeney | Wakeeney | KS
10880 | Kaw Valley State Bank & Trust Co | Wamego | KS
15583 | Bank of the Flint Hills | Wamego | KS
54931 | CBW Bank | Weir | KS
52779 | Farmers State Bank of Westmoreland | Westmoreland | KS
6081 | Fidelity Bank | Wichita | KS
52171 | First Bank of Bancroft | Bancroft | NE
54819 | Sandhills State Bank | Bassett | NE
55332 | Eagle State Bank | Eagle | NE
15703 | First Bank & Trust of Fullerton | Fullerton | NE
14701 | Heartland Bank | Geneva | NE
3519 | Home FS&LA of Grand Island | Grand Island | NE
7056 | Equitable Bank | Grand Island | NE
10480 | The Hershey State Bank | Hershey | NE
54882 | First National Bank of Holdrege | Holdrege | NE
15694 | Bank of Keystone | Keystone | NE
5760 | Home Fs&la of Nebraska | Lexington | NE
3896 | Lincoln FSB of Nebraska | Lincoln | NE
13630 | First National Bank Northeast | Lyons | NE
7715 | Madison County Bank | Madison | NE
15948 | Frontier Bank | Madison | NE
9353 | Farmers & Merchants Bank | Milford | NE
52178 | Corn Growers State Bank | Murdock | NE
17697 | Murray State Bank | Murray | NE
17555 | Bank of Newman Grove | Newman Grove | NE
11510 | BankFirst | Norfolk | NE
17594 | Elkhorn Valley Bank & Trust | Norfolk | NE
15362 | Nebraskaland National Bank | North Platte | NE
54791 | Medico Insurance Company | Omaha | NE
54883 | Omaha Federal Credit Union | Omaha | NE
54954 | United Republic Bank | Omaha | NE
15866 | Pender State Bank | Pender | NE
15702 | Midwest Bank, NA | Pierce | NE
15876 | Town & Country Bank | Ravenna | NE
9363 | First State Bank | Scottsbluff | NE
3360 | Sidney Fs&la | Sidney | NE
15873 | Springfield State Bank | Springfield | NE
17328 | Bank of Stapleton | Stapleton | NE
17837 | Tri-Valley Bank | Talmage | NE
5275 | Tecumseh Federal Bank | Tecumseh | NE
15313 | First Bank of Utica | Utica | NE
17088 | Oak Creek Valley Bank | Valparaiso | NE
10934 | Farmers State Bank | Wallace | NE
17087 | Commercial State Bank | Wausa | NE
15794 | Citizens State Bank | Wisner | NE
17320 | Cornerstone Bank | York | NE
15030 | Truity Federal Credit Union | Bartlesville | OK
52136 | AVB Bank | Broken Arrow | OK
54879 | AllNations Bank | Calumet | OK
54926 | Bank of Commerce | Chouteau | OK
16947 | Cleo State Bank | Cleo Springs | OK
7832 | Grands Savings Bank | Grove | OK
13633 | Grand Lake Bank | Grove | OK
11619 | Bank of Hydro | Hydro | OK
54942 | First Oklahoma Bank | Jenks | OK
15608 | Armstrong Bank | Muskogee | OK
13606 | The Citizens State Bank | Okemah | OK
11373 | First Enterprise Bank | Oklahoma City | OK
55351 | Oklahoma Federal Credit Union | Oklahoma City | OK
11655 | Bank of Cordell | Rocky | OK
17181 | Lakeside Bank of Salina | Salina | OK
52194 | SNB Bank, National Association | Shattuck | OK
15757 | Anchor D Bank | Texhoma | OK
17589 | The Bank of the West | Thomas | OK
15927 | Energy One Federal Credit Union | Tulsa | OK
54947 | Red Crown Federal Credit Union | Tulsa | OK
15944 | First Bank & Trust Company | Wagoner | OK
15316 | Bank of Commerce | Yukon | OK
Federal Home Loan Bank of San Francisco—District 11
52772 | Western Alliance Bank | Phoenix | AZ
55377 | Oxford Life Insurance Company | Phoenix | AZ
54829 | Pinnacle Bank | Scottsdale | AZ
55387 | Tucson Federal Credit Union | Tucson | AZ
8084 | Eastern International Bank | Alhambra | CA
15473 | New OMNI Bank, National Association | Alhambra | CA
52076 | Kern Schools Federal Credit Union | Bakersfield | CA
54933 | Valley Republic Bank | Bakersfield | CA
17634 | Chino Commercial Bank, N.A | Chino | CA
52091 | Bank of Marin | Corte Madera | CA
52572 | Coast Central Credit Union | Eureka | CA
52789 | Fresno County Federal Credit Union | Fresno | CA
55388 | Western Federal Credit Union | Hawthorne | CA
55389 | Caltech Employees Federal Credit Union | La Canada Flintridge | CA
13589 | Farmers & Merchants Bank of Central California | Lodi | CA
16774 | State Bank of India (California) | Los Angeles | CA
17075 | BBCN Bank | Los Angeles | CA
17183 | Wilshire Bank | Los Angeles | CA
52793 | American Business Bank | Los Angeles | CA
54914 | Grandpoint Bank | Los Angeles | CA
54845 | Royal Business Bank | Los Angeles | CA
54993 | Banamex USA | Los Angeles | CA
52007 | Kinecta Federal Credit Union | Manhattan Beach | CA
55362 | Camino Federal Credit Union | Montebello | CA
52473 | SAFE Credit Union | North Highlands | CA
8855 | United Business Bank, F.S.B | Oakland | CA
15466 | Wescom Central Credit Union | Pasadena | CA
54958 | Pasadena Service Federal Credit Union | Pasadena | CA
16781 | 1st United Services Credit Union | Pleasanton | CA
17173 | Valley Community Bank | Pleasanton | CA
15698 | Redding Bank of Commerce | Redding | CA
54877 | San Mateo Credit Union | Redwood City | CA
13357 | University & State Employees Credit Union | San Diego | CA
15472 | San Diego County Credit Union | San Diego | CA
17399 | San Diego Metropolitan Credit Union | San Diego | CA
17635 | Point Loma Credit Union | San Diego | CA
54989 | North County Credit Union | San Diego | CA
15395 | Chevron Federal Credit Union | San Francisco | CA
15951 | California Bank & Trust | San Francisco | CA
52439 | Northeast Community Federal Credit Union | San Francisco | CA
54834 | First Republic Bank | San Francisco | CA
55346 | S.F. Police Credit Union | San Francisco | CA
54887 | New Resource Bank | San Francisco | CA
17150 | Alliance Credit Union | San Jose | CA
55349 | Capital Bank | San Juan Capistrano | CA
52565 | Coast National Bank | San Luis Obispo | CA
52472 | Bridge Bank, N.A | Santa Clara | CA
52480 | Silicon Valley Bank | Santa Clara | CA
52713 | Community Bank of Santa Maria | Santa Maria | CA
52818 | Pacific Western Bank | Santa Monica | CA
7960 | Luther Burbank Savings | Santa Rosa | CA
14780 | Sunwest Bank | Tustin | CA
54794 | Mendo Lake Credit Union | Ukiah | CA
52895 | County Commerce Bank | Ventura | CA
54888 | Bank of Feather River | Yuba City | CA
55370 | Greater Nevada Credit Union | Carson City | NV
52844 | Town & Country Bank | Las Vegas | NV
54797 | Meadows Bank | Las Vegas | NV
Federal Home Loan Bank of Seattle—District 12
14844 | First National Bank of Anchorage | Anchorage | AK
8885 | First Bank | Ketchikan | AK
5991 | Territorial Savings Bank | Honolulu | HI
9549 | Aloha Pacific Federal Credit Union | Honolulu | HI
55354 | HMSA Employees Federal Credit Union | Honolulu | HI
54827 | Community 1st Bank | Post Falls | ID
13461 | Rocky Mountain Bank | Billings | MT
54983 | Billings Federal Credit Union | Billings | MT
11267 | Three Rivers Bank of Montana | Kalispell | MT
10556 | American Bank of Montana | Livingston | MT
13106 | Western Bank of Wolf Point | Wolf Point | MT
15343 | Rogue Federal Credit Union | Medford | OR
55357 | Standard Insurance Company | Portland | OR
10745 | First National Bank of Layton | Layton | UT
55338 | Wasatch Peaks Credit Union | Ogden | UT
13865 | Capital Community Bank | Orem | UT
8926 | Zions First National Bank | Salt Lake City | UT
55000 | Nebo Credit Union | Springville | UT
1626 | Anchor Mutual Savings Bank | Aberdeen | WA
10584 | The Bank of the Pacific | Aberdeen | WA
9745 | Whatcom Educational Credit Union | Bellingham | WA
14463 | Kitsap Credit Union | Bremerton | WA
9431 | Security State Bank | Centralia | WA
13657 | The Wheatland Bank | Davenport | WA
11224 | Islanders Bank | Friday Harbor | WA
11936 | 1st Security Bank of Washington | Lynnwood | WA
2763 | Heritage Bank | Olympia | WA
16979 | South Sound Bank | Olympia | WA
54957 | Liberty Bay Bank | Poulsbo | WA
8324 | HomeStreet Bank | Seattle | WA
12913 | Sound Community Bank | Seattle | WA
14310 | Spokane Teachers Credit Union | Spokane | WA
54951 | RiverBank | Spokane | WA
9429 | Sound Banking Company | Tacoma | WA
15224 | TAPCO Credit Union | Tacoma | WA
16764 | Columbia Community Credit Union | Vancouver | WA
1691 | Banner Bank | Walla Walla | WA
7664 | Security First Bank | Cheyenne | WY
10839 | Cowboy State Bank | Ranchester | WY
9902 | The Rawlins National Bank | Rawlins | WY

II. Public Comments

To encourage the submission of public comments on the community support performance of Bank members, on or before March 31, 2015, each Bank will notify its Advisory Council, nonprofit housing developers, community groups and other interested parties in its district of the members of the Bank selected for this review cycle. 12 CFR 1290.2(b)(2)(ii). In reviewing a member for community support compliance, FHFA will consider any public comments it has received concerning the member. 12 CFR 1290.2(d). To ensure consideration by FHFA, comments concerning the community support performance of members selected for this review cycle must be submitted to FHFA, either by electronic mail to hmgcommunitysupportprogram@fhfa.gov, or by fax to 202-649-4130, on or before April 30, 2015.

Dated: March 9, 2015.
Melvin L. Watt,
Director, Federal Housing Finance Agency.

[FR Doc. 2015-05802 Filed 3-13-15; 8:45 am]

BILLING CODE 8070-01-P